DEPARTMENT OF JUSTICE

Notice of Lodging of Consent Decree Under the Comprehensive Environmental Response, Compensation and Liability Act (``CERCLA''), the Clean Water Act (``CWA'') and the Oil Pollution Act of 1990 (``OPA'')

Notice is hereby given that on January 13, 2005, a proposed Consent Decree in United States v. Chevron U.S.A. Inc., Civil Action No. 1:05CV0021, was lodged with the United States District Court for the Eastern District of Texas.

In this action the United States and the State of Texas (“State”) sought natural resource damages pursuant to the Comprehensive Environmental Response, Compensation and Liability Act (“CERCLA”), the Clean Water Act (“CWA”), and the Oil Pollution Act of 1990 (“OPA”) and the regulations promulgated thereunder. The Chevron facility is located in Port Authur, Jefferson County, Texas.

Under the Consent Decree, Chevron U.S.A. Inc., Chevron Environmental Management company, and Chevron Phillips Chemical Company, LP will construct and plan an 85-acre estuarine marsh and a 30-acre coastal wet prairie and will construct some water control structures near Port Arthur, Texas. The companies will pay approximately $150,000 in past assessment costs incurred by the federal trustees, additional future costs that the federal trustees expect to incur, and costs incurred by the State trustees.

The Department of Justice will receive for a period of thirty (30) days from the date of this publication comments relating to the Consent Decree. Comments should be addressed to the Assistant Attorney General, Environmental and Natural Resources Division, PO Box 7611, U.S. Department of Justice, Washington, DC 20044-7611, and should refer to United States v. Chevron U.S.A. Inc., D.J. Ref. No. 90-11-2-07542/1.

The Consent Decree may be examined during the public comment period on the following Department of Justice Web site: http:/www.usdoj.gov/enrd/open.html. A copy of the Consent Decree may also be obtained by mail from the Consent Decree Library, PO Box 7611, U.S Department of Justice, Washington, DC 20044-7611 or by faxing or e-mailing a request to Tonia Fleetwood (tonia.fleetwood@usdoj.gov), fax no. (202) 514-0097, phone confirmation number (202) 514-1547. In requesting a complete copy of the Consent Decree from the Consent Decree Library, please enclose a check in the amount of $28.50 (25 cents per page reproduction cost) payable to the U.S. Treasury. In requesting a copy of the Consent Decree, exclusive of exhibits and defendants' signatures, please enclose a check in the amount of $13.50 (25 cents per page reproduction cost) payable to the U.S. Treasury.

Thomas A. Mariani, Jr.,
Assistant Section Chief, Environmental Enforcement Section, Environmental and Natural Resources Division.

[FR Doc. 05-1446 Filed 1-25-05; 8:45 am]

BILLING CODE 4410-15-M